DEPARTMENT OF COMMERCE

National Oceanic and Atmospheric Administration

50 CFR Part 660

[Docket No. 120424023-1023-01]

RIN 0648-XC282

Fisheries Off West Coast States; Modifications of the West Coast Commercial and Recreational Salmon Fisheries; Inseason Actions #22 through #26

AGENCY: National Marine Fisheries Service (NMFS), National Oceanic and Atmospheric Administration (NOAA), Commerce.

ACTION: Modification of fishing seasons and landing and possession limits; request for comments.

SUMMARY: NMFS announces 5 inseason actions in the ocean salmon fisheries. These inseason actions modified the commercial and recreational fisheries in the area from the U.S./Canada Border to Humboldt South Jetty, California.

DATES: The effective dates for the inseason action are set out in this document under the heading Inseason Actions. Comments will be accepted through November 13, 2012.

ADDRESSES: You may submit comments, identified by NOAA-NMFS-2012-0079, by any one of the following methods:

• Electronic Submissions: Submit all electronic public comments via the Federal eRulemaking Portal http://www.regulations.gov. To submit comments via the e-Rulemaking Portal, enter NOAA-NMFS-2012-0079 in the search box. Locate the document you wish to comment on from the resulting list and click on the “Submit a Comment” icon on the right of that line.

• Mail: William W. Stelle, Jr., Regional Administrator, Northwest Region, NMFS, 7600 Sand Point Way NE., Seattle, WA 98115-6349.

• Fax: 206-526-6736, Attn: Peggy Mundy.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

FOR FURTHER INFORMATION CONTACT: Peggy Mundy at 206-526-4323.

SUPPLEMENTARY INFORMATION:

Background

In the 2012 annual management measures for ocean salmon fisheries (77 FR 25915, May 2, 2012), NMFS announced the commercial and recreational fisheries in the area from the U.S./Canada Border to the U.S./Mexico Border, beginning May 1, 2012, and 2013 salmon seasons opening earlier than May 1, 2013.

NMFS is authorized to implement inseason management actions to modify fishing seasons and quotas as necessary to provide fishing opportunity while meeting management objectives for the affected species (50 CFR 660.409). Prior to taking inseason action, the Regional Administrator (RA) consults with the Chairman of the Pacific Fishery Management Council (Council) and the appropriate State Directors (50 CFR 660.409(b)(1)). Management of the salmon fisheries is generally divided into two geographic areas: north of Cape Falcon (U.S./Canada Border to Cape Falcon, Oregon) and south of Cape Falcon (Cape Falcon, Oregon to the U.S./Mexico Border).

Inseason Actions

The table below lists the inseason actions announced in this document.

Inseason action number | Effective date | Salmon fishery affected
22 | September 7, 2012 | Commercial fishery from Humbug Mountain, Oregon to the Oregon/California Border (Oregon Klamath Management Zone or Oregon KMZ).
23 | September 13, 2012 | Recreational fishery from Queets River to Leadbetter Point (Westport subarea).
24 | September 20, 2012 | Recreational fishery from Cape Falcon, Oregon to Humbug Mountain, Oregon.
25 | September 19, 2012 | Commercial fishery from Oregon/California Border to Humboldt South Jetty, California (California KMZ).
26 | September 27, 2012 | Recreational fisheries from U.S./Canada Border to Queets River, Washington (Neah Bay and La Push subareas).

Inseason Action #22

The RA consulted with representatives of the Council, Oregon Department of Fish and Wildlife (ODFW), and California Department of Fish and Game (CDFG) on September 7, 2012.

The information considered during this consultation related to catch and effort to date in the commercial salmon fisheries south of Cape Falcon in the Oregon KMZ. Inseason action #22 closed the commercial salmon fishery in the Oregon KMZ on September 7, 2012, due to projected attainment of Chinook salmon quota. On September 7, 2012, the states recommended this action and the RA concurred; inseason action #22 took effect on September 7, 2012, and remained in effect until the end of the fishing season. Inseason action to effect season closure due to attainment of quota is authorized by 50 CFR 660.409(a)(1).

Inseason Action #23

The RA consulted with representatives of the Council, Washington Department of Fish and Wildlife (WDFW), and ODFW on September 11, 2012. The information considered during this consultation related to catch and effort to date in the recreational salmon fishery north of Cape Falcon. Inseason action #23 adjusted the daily bag limit for the recreational salmon fishery in the Westport subarea (Queets River to Leadbetter Point) to two fish per day both of which can be a coho salmon and unmarked coho may be retained. This action was taken to allow greater access to available coho quota in the recreational fishery. On September 11, 2012, the states recommended this action and the RA concurred; inseason action #23 took effect on September 13, 2012, superseding inseason action #16 (77 FR 61728, October 11, 2012), and remained in effect until the end of the fishing season. Modification of recreational bag limits is authorized by 50 CFR 660.409(b)(1)(iii).

Inseason Action #24

The RA consulted with representatives of the Council, ODFW, and CDFG on September 18, 2012. The information considered during this consultation related to catch and effort to date in the recreational salmon fishery south of Cape Falcon. Inseason action #24 adjusted the schedule for the Cape Falcon to Humbug Mountain non-mark-selective coho fishery. The opening scheduled preseason for September 20 through September 22 was changed to September 21 only. This action was taken due to projected attainment of non-mark-selective quota for this fishery. On September 18, 2012, the states recommended this action and the RA concurred; inseason action #24 took effect on September 20, 2012 and remained in effect until September 22, 2012. Inseason modification of fishing seasons is authorized by 50 CFR 660.409(b)(1)(i).

Inseason Action #25

The RA consulted with representatives of the Council, ODFW, and CDFG on September 19, 2012. The information considered during this consultation related to catch and effort to date in the commercial salmon fishery in the California KMZ. Inseason action #25 closed the commercial salmon fishery between the Oregon/California Border and Humboldt South Jetty on September 19, 2012 due to projected attainment of Chinook salmon quota. On September 19, 2012, the states recommended this action and the RA concurred; inseason action #25 took effect on September 19, 2012 and remained in effect through the end of the fishing season. Inseason action to effect season closure due to attainment of quota is authorized by 50 CFR 660.409(a)(1).

Inseason Action #26

The RA consulted with representatives of the Council, (WDFW), and (ODFW) on September 27, 2012. The information considered during this consultation related to catch and effort to date in the recreational salmon fisheries north of Cape Falcon. Inseason action #26 transferred 150 coho salmon from the recreational fishery quota for the Neah Bay subarea to the recreational fishery quota for the La Push subarea. This action resulted in a final coho quota of 8,200 for Neah Bay and 2,360 for La Push. This action was taken to allow the La Push fall fishing season to proceed as scheduled for September 29 through October 14 (77 FR 25915, May 2, 2012) while staying within the coho quota. On September 27, 2012, the states recommended this action and the RA concurred; inseason action #26 took effect on September 27, 2012 and remains in effect until the end of the fishing season or subsequent inseason action. Inseason modification of quotas and/or fishing seasons is authorized by 50 CFR 660.409(b)(1)(i).

All other restrictions and regulations remain in effect as announced for the 2012 Ocean Salmon Fisheries (77 FR 25915, May 2, 2012) and subsequent inseason actions (77 FR 55426, September 10, 2012; and 77 FR 61728, October 11, 2012) not otherwise modified herein.

The RA determined that the best available information indicated that the stock abundance, and catch and effort projections supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (77 FR 25915, May 2, 2012), the West Coast Salmon Plan, and regulations implementing the West Coast Salmon Plan (50 CFR 660.409 and 660.411). Prior notice and opportunity for public comment was impracticable because NMFS and the state agencies had insufficient time to provide for prior notice and the opportunity for public comment between the time the fishery catch and effort data were collected to determine the extent of the fisheries, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: October 23, 2012.
James P. Burgess,
Acting Deputy Director, Office of Sustainable Fisheries, National Marine Fisheries Service.

[FR Doc. 2012-26414 Filed 10-25-12; 8:45 am]

BILLING CODE 3510-22-P